DEPARTMENT OF HEALTH AND HUMAN SERVICES

Administration for Children and Families

Submission for OMB Review; Comment Request

Title: National Implementation of Head Start National Reporting System on Child Outcomes.

OMB No.: 0970-0249.

Description: The Administration for Children and Families (ACF) of the Department of Health and Human Services (HHS) is requesting comments on plans to implement the Head Start National Reporting System (HSNRS) on Child Outcomes. Child-outcomes information collected by this implementation is expected to enhance Head Start programs' accountability and quality.

HSNRS addresses Presidentially mandated reforms and Congressionally mandated requirements for information on specific child outcomes and provides Head Start program managers and teachers with useful information to support program-improvement strategies.

HSNRS has three major goals. First, HSNRS will provide local Head Start programs with information about the progress of groups of children on a limited number of performance measures by measuring how children are doing at the beginning and at the end of each program year. Second, HSNRS will capture the same set of information across the nation in a consistent manner, allowing for creation of normative comparison groups. Individual programs can use this information to target needs for training and technical assistance. Third, the child-outcomes information captured in HSNRS should serve as one component of the current national program monitoring effort, which involves on-site, systematic review of programs. The Head Start Bureau can use compiled HSNRS data as part of the process for ensuring the effectiveness of services. These results can highlight the needs of specific groups of children, identify local programs' technical assistance and training needs, and contribute to the accountability of Head Start.

The first three rounds of the HSNRS national implementation (2003-04, 2004-05, and 2005-06 program years) were successful. In each round of the data collection, over 400,000 assessments were completed, making this the largest assessment of preschool children ever conducted. Over 99 percent of Head Start programs and Head Start parents and children cooperated fully with the HSNRS procedures. The HSNRS data show good internal reliability, both in terms of Item Response Theory (IRT) reliability and Cronbach's Coefficient Alpha at the individual child-level, for both English-language and Spanish-language assessments. IRT estimates of the internal reliability of the program-level English-language assessment scores were excellent, with most IRT-reliability coefficients greater than .90.

For each program year, participating local Head Start programs received HSNRS Program Reports at the aggregated program-level for the fall assessment (baseline) and the spring assessment (fall-spring growth). These reports provided local Head Start programs with information about the progress of their children in all assessed domains and demonstrated how these scores compared to all other Head Start children (national-level reference tables) as well as children in similar programs (subgroup reference tables).

HSNRS will continue to collect child-outcomes information from children who are four years-old or older and who will enter Kindergarten next year. As in the previous three years, all eligible Head Start children will be assessed twice a year using a standardized direct child-assessment battery. The assessment battery will address a limited set of early literacy, language, and numeracy skills.

Twice a year, HSNRS will also collect teachers' reports of social-emotional development of Head Start children using standardized rating scales. These social-emotional rating scales will be field-tested in spring 2006 prior to national implementation in fall 2006. Head Start teachers will rate children in their classrooms on the aspects of cooperative classroom behaviors, preschool learning behaviors, and problem behaviors.

HSNRS will also collect health and safety information on children and programs, including children's height and weight, immunization status, receipt of dental care, and occurrences of injuries requiring medical attention.

Finally, a computer-assisted version of the HSNRS assessment battery and PDA version of answer forms will be used on a field trial basis starting in fall 2006 with a nationally representative sample of Head Start programs. The purpose of the field trial is to investigate the feasibility of the use of computer and PDA technologies in HSNRS data collection. To collect feedback on the computer-assisted assessment and PDA answer form approaches, brief telephone interviews will be conducted with program staff from participating Head Start programs in fall and spring.

Respondents: Head Start children and Head Start staff.

Annual Burden Estimates
Respondents and activities | Number of respondents | Number of responses per respondent | Average burden hours per response | Total burden hours
Fall Implementation
Head Start Children: Participate in Child Assessments | 425,000 | 1 | ¼ | 106,250
Head Start Staff (Assessors): Participate in Training on Child Assessments | 25,000 | 1 | 4 | 100,000
Head Start Staff (Local HSNRS Trainers): Participate in Training on Child Assessments | 1,800 | 1 | 4 | 7,200
Head Start Staff (Local HSNRS Trainers): Participate in Training on Computer-Assisted Child Assessments and PDA Answer Forms | 220 | 1 | 12 | 2,640
Head Start Staff (Assessors): Administer Child Assessments | 25,000 | 17 | ¼ | 106,250
Head Start Teachers: Participate in Training on Social-Emotional Development Ratings | 38,500 | 1 | 1 | 38,500
Head Start Teachers: Complete Social-Emotional Development Ratings | 38,500 | 11 | ⅙ | 70,583
Head Start Teachers: Complete Child Health Questions | 38,500 | 11 | 1/12 | 35,292
Head Start Staff, Complete Health and Safety of Program Questions | 1,800 | 1 | 1/12 | 150
Head Start Staff: Enter Information on Computer-Based Reporting System (CBRS) | 1,800 | 1 | 3 | 5,400
Head Start Staff: Provide feedback on Computer-Assisted Child Assessments and PDA Answer Forms | 220 | 1 | 1/12 | 18
Spring Implementation
Head Start Children: Participate in Child Assessments | 425,000 | 1 | ¼ | 106,250
Head Start Staff (Assessors): Participate in Refresher Training on Child Assessments | 25,000 | 1 | 4 | 100,000
Head Start Staff (Local HSNRS Trainers): Participate in Training on Child Assessments | 1,800 | 1 | 4 | 7,200
Head Start Staff (Assessors): Administer Child Assessments | 25,000 | 17 | ¼ | 106,250
Head Start Teachers: Participate in Refresher Training on Social-Emotional Development Ratings | 38,500 | 1 | ½ | 19,250
Head Start Teachers: Complete Social-Emotional Development Ratings | 38,500 | 11 | ⅙ | 70,583
Head Start Teachers: Complete Child Health Questions | 38,500 | 11 | 1/12 | 35,292
Head Start Staff: Complete Health and Safety of Program Questions | 1,800 | 1 | 1/12 | 150
Head Start Staff: Enter Information on CBRS | 1,800 | 1 | 3/2 | 2,700
Head Start Staff: Provide feedback on Computer-Assisted Child Assessments and PDA Answer Forms | 220 | 1 | 1/12 | 18
Total Annual Burden Estimates |  |  |  | 919,976

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment:

OMB is required to make a decision concerning the collection of information between 30 and 60 days after publication of this document in the Federal Register. Therefore, a comment is best assured of having its full effect if OBM receives it within 30 days of publication. Written comments and recommendations for the proposed information collection should be sent directly to the following: Office of Management and Budget Paperwork Reduction Project Attn: Desk Officer for ACF E-mail address: Katherin_T._Astrich@omb.eop.gov.

Dated: April 16, 2006.
Robert Sargis,
Reports Clearance Officer.

[FR Doc. 06-3524 Filed 4-12-06; 8:45 am]

BILLING CODE 4184-01-M